SECURITIES AND EXCHANGE COMMISSION

[File No. 500-1]

In the Matter of Savoy Resources Corp., SNRG Corp., Standard Mobile, Inc., and VTEX Energy, Inc.; Order of Suspension of Trading

May 23, 2012.

It appears to the Securities and Exchange Commission that there is a lack of current and accurate information concerning the securities of Savoy Resources Corp. because it has not filed any periodic reports since the period ended March 31, 2006.

It appears to the Securities and Exchange Commission that there is a lack of current and accurate information concerning the securities of SNRG Corp. because it has not filed any periodic reports since the period ended June 30, 2006.

It appears to the Securities and Exchange Commission that there is a lack of current and accurate information concerning the securities of Standard Mobile, Inc. because it has not filed any periodic reports since the period ended March 31, 2009.

It appears to the Securities and Exchange Commission that there is a lack of current and accurate information concerning the securities of VTEX Energy, Inc. because it has not filed any periodic reports since the period ended July 31, 2006.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on May 23, 2012, through 11:59 p.m. EDT on June 6, 2012.

By the Commission.
Jill M. Peterson,
Assistant Secretary.

[FR Doc. 2012-12899 Filed 5-23-12; 11:15 am]

BILLING CODE 8011-01-P